ENVIRONMENTAL PROTECTION AGENCY

[FRL-9907-64-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 2484.01; Willingness To Pay Survey for Santa Cruz River Management Options in Southern Arizona (New); was approved on 02/05/2014; OMB Number 2080-0080; expires on 02/28/2015; Approved with change.

EPA ICR Number 2487.01; EPA's Design for the Environment (DfE) Logo Redesign Consultations; was approved on 02/05/2014; OMB Number 2070-0189; expires on 02/28/2017; Approved with change.

EPA ICR Number 2288.02; Pesticides Data Call In Program; 40 CFR parts 150-189; was approved on 02/05/2014; OMB Number 2070-0174; expires on 02/28/2017; Approved without change.

EPA ICR Number 2185.05; State Review Framework; 40 CFR 70.4, 123.41 and 271.17(a); was approved on 02/11/2014; OMB Number 2020-0031; expires on 02/28/2017; Approved with change.

EPA ICR Number 0116.10; Emission Control System Performance Warranty Regulations and Voluntary Aftermarket Part Certification Program (Renewal); 40 CFR part 85 subpart V; was approved on 02/11/2014; OMB Number 2060-0060; expires on 02/28/2017; Approved without change.

EPA ICR Number 2412.02; Electronic Reporting of TSCA Section 4, Section 5 NOC and Supporting Documents, 8(a) Preliminary Assessment Information Rule (PAIR), and 8(d) Submissions; 40 CFR parts 712, 716, 720, 725 and 790; was approved on 02/25/2014; OMB Number 2070-0183; expires on 02/28/2017; Approved without change.

EPA ICR Number 1665.12; Confidentiality Rules (Renewal); 40 CFR part 2 subparts A and B; was approved on 02/25/2014; OMB Number 2020-0003; expires on 02/28/2017; Approved without change.

EPA ICR Number 0657.11; NSPS for Graphic Arts Industry; 40 CFR part 60 subparts A and QQ; was approved on 02/27/2014; OMB Number 2060-0105; expires on 02/28/2017; Approved without change.

EPA ICR Number 0794.13; Notification of Substantial Risk of Injury to Health and the Environment under TSCA Section 8(e); was approved on 02/27/2014; OMB Number 2070-0046; expires on 02/28/2017; Approved with change.

Comment Filed

EPA ICR Number 1869.08; NESHAP for the Manufacture of Amino/Phenolic Resins; in 40 CFR 63.1400-63.1419; and 40 CFR part 63 subpart A; OMB filed comment on 02/27/2014.

EPA ICR Number 1871.07; NESHAP for Source Categories: Generic Maximum Achievable Control Technology Standards; in 40 CFR 63.1100-63.1114; and 40 CFR part 63 subpart A; OMB filed comment on 02/27/2014.

Richard T. Westlund,
Acting Director, Collections Strategies Division.

[FR Doc. 2014-05218 Filed 3-10-14; 8:45 am]

BILLING CODE 6560-50-P